DEPARTMENT OF HEALTH AND HUMAN SERVICES

Substance Abuse and Mental Health Services Administration

Notice of a Meeting

Pursuant to Public Law 92-463, notice is hereby given of a meeting of the Substance Abuse and Mental Health Services Administration (SAMHSA) Advisory Committee for Women's Service on April 24, 2007.

The meeting is open to the public and will include a presentation on SAMHSA's Children and Families activities; and discussions on SAMHSA's policy issues and programs relating to women.

Attendance by the public will be limited to the space available. Public comments are welcome. Please communicate with the Committee's Executive Secretary, Ms. Carol Watkins (see contact information below) to make arrangements to comment or to request special accommodations for persons with disabilities.

Substantive program information, a summary of the meeting, and a roster of Council members will be available as soon as possible after the meeting, either by accessing the SAMHSA Committee's Web site, https://www.nac.samhsa.gov, or by contacting Ms. Watkins. The transcript for the meeting will also be available on the SAMHSA Committee's Web site within three weeks after the meeting.

Committee Name: SAMHSA Advisory Committee for Women's Service.

Date/Time/Type: Tuesday, April 24, 2007, from 9 a.m. to 12 noon: Open.

Place: Hyatt Regency Hotel, 100 Heron Boulevard, Cambridge, Maryland 21613.

Contact: Carol Watkins, Executive Secretary, SAMHSA Advisory Committee for Women's Services, 1 Choke Cherry Road, Room 8-1002, Rockville, Maryland 20857, Telephone: (240) 276-2254; Fax: (240) 276-1024 and e-mail: carol.watkin2@samhsa.hhs.gov.

Dated: March 30, 2007.
Toian Vaughn,
SAMHSA Committee Management Officer

[FR Doc. 07-1671 Filed 4-4-07; 8:45 am]

BILLING CODE 4162-20-M